DEPARTMENT OF COMMERCE

INTERNATIONAL TRADE ADMINISTRATION

[A-570-504]

Petroleum Wax Candles From the People's Republic of China: Initiation of Antidumping Duty New Shipper Review

AGENCY: Import Administration, International Trade Administration, Department of Commerce.

ACTION: Notice of initiation of antidumping duty new shipper review.

SUMMARY: The Department of Commerce (the Department) has received a request from Shanghai New Star Im/Ex Co., Ltd. (Shanghai) to conduct a new shipper review of the antidumping duty order on petroleum wax candles from the People's Republic of China (PRC). In accordance with section 751(a)(2)(B) of the Tariff Act of 1930, as amended, and 19 CFR 351.214(d), we are initiating this new shipper review.

EFFECTIVE DATE: March 28, 2001.

FOR FURTHER INFORMATION CONTACT: Abdelali Elouaradia or Matthew Renkey, AD/CVD Enforcement, Import Administration, International Trade Administration, Department of Commerce, 14th Street and Constitution Avenue, NW., Washington, DC 20230; telephone: (202) 482-1374 or (202) 482-2312, respectively.

The Applicable Statute and Regulations

Unless otherwise indicated, all citations to the Tariff Act of 1930, as amended (“the Act”), are references to the provisions effective January 1, 1995, the effective date of the amendments made to the Act by the Uruguay Round Agreements Act. In addition, unless otherwise indicated, all references to the Department's regulations are to 19 CFR Part 351 (2000).

Background

On February 28, 2001, the Department received a timely request from Shanghai, pursuant to section 751(a)(2)(B) of the Act and in accordance with 19 CFR 351.214(c), for a new shipper review of the antidumping duty order on petroleum wax candles from the PRC. This order has a February semiannual anniversary month. On March 14 and 16, 2001, Shanghai clarified in additional submissions that it had only one shipment during the period of review (POR) and that there have been no additional shipments of the subject merchandise to the United States, pursuant to 19 CFR 351.214(b)(2)(iv)(B).

Initiation of Review

Pursuant to 19 CFR 351.214(b)(2)(i) and 19 CFR 351.214(b)(2)(iii)(A), in its February 28, 2001 request for review, Shanghai certified that it did not export the subject merchandise to the United States during the period of investigation (POI) and that it is not affiliated with any company which exported subject merchandise to the United States during the POI. Pursuant to 19 CFR 351.214(b)(2)(iii)(B), Shanghai further certified that its export activities are not controlled by the central government of the PRC. Also, in accordance with 19 CFR 351.214(b)(2)(iv), Shanghai submitted documentation showing the date on which subject merchandise entered the United States, the volume of that shipment, and the date of the first sale to an unaffiliated customer in the United States.

Therefore, in accordance with section 751(a)(2)(B) of the Act and 19 CFR 351.214(d), we are initiating a new shipper review of the antidumping duty order on petroleum wax candles from the PRC. In accordance with 19 CFR 351.214(h)(i), we intend to issue the preliminary results of this review not later than 180 days from the date of publication of this notice. All provisions of 19 CFR 351.214 will apply to Shanghai throughout the duration of this new shipper review.

In accordance with 19 CFR 351.214(g)(1)(i)(A), the POR for a new shipper review initiated in the month immediately following the semiannual anniversary month is the six-month period immediately preceding the semiannual anniversary month. Therefore, the POR for this new shipper is:

Antidumping duty proceeding | Period to be reviewed
Petroleum Wax Candles from the PRC, A-570-504:
Shanghai New Star Im/Ex Co., Ltd. | 8/01/00-1/31/01

Concurrent with the publication of this initiation notice, and in accordance with 19 CFR 351.214(e), effective on the date of publication of this notice we will instruct the U.S. Customs Service to suspend liquidation of any unliquidated entries of the subject merchandise from the relevant exporter or producer, and allow, at the option of the importer, the posting until the completion of this review, of a bond or security in lieu of a cash deposit for each entry of the subject merchandise exported by the company listed above.

Interested parties may submit applications for disclosure of business proprietary information under administrative protective order in accordance with 19 CFR 351.305 and 351.306.

This initiation and notice are in accordance with section 751(a) of the Act (19 U.S.C. 1675(a)) and 19 CFR 351.214.

Dated: March 21, 2001.
Joseph A. Spetrini,
Deputy Assistant Secretary, AD/CVD Enforcement Group III.

[FR Doc. 01-7651 Filed 3-27-01; 8:45 am]

BILLING CODE 3510-DS-P